DEPARTMENT OF JUSTICE

Notice of Lodging of Settlement Agreement Under the Comprehensive Environmental Response, Compensation, and Liability Act

Under 28 CFR 50.7, notice is hereby given that on November 12, 2004, a proposed Settlement Agreement in In re: Met-Coil Systems, LLC (f/k/a Met-Coil Systems Corporation), Case No. 03-12676 was lodged with the United States Bankruptcy Court for the District of Delaware.

In this action the United States sought reimbursement from Met-Coil Systems Corp. of response costs incurred for response actions taken at or in connection with the release of hazardous substances at the Lockformer Site located in Lisle, Illinois. The Settlement Agreement provides that Met-Coil Systems LLC shall continue its cleanup of the Lockformer Site under the existing Unilateral Administrative Order, the United States shall be allowed a general unsecured claim in the amount of $415,000, with a cash value of $290,500 (under the Plan of Reorganization approved by the Bankruptcy Court, creditors shall receive $0.70 for each dollar of an allowed general unsecured claim), and the United States shall be allowed an administrative expense claim in the amount of $120,000 to be paid in full, for a total payment of $410,500 as partial reimbursement for response costs incurred by the United States.

The Department of Justice will receive for a period of thirty (30) days from the date of this publication comments relating to the Settlement Agreement. Comments should be addressed to the Assistant Attorney General, Environment and Natural Resources Division, P.O. Box 7611, U.S. Department of Justice, Washington, DC 20044-7611, and should refer to In re: Met-Coil Systems, LLC (f/k/a Met-Coil Systems Corporation), D.J. Ref. No. 90-11-3-08219.

The Settlement Agreement may be examined at the Office of the United States Attorney, 1201 Market Street, Wilmington, Delaware, and at U.S. EPA Region 5, 77 W. Jackson Blvd., Chicago, Illinois. During the public comment period, the Settlement Agreement, may also be examined on the following Department of Justice Web site, http://www.usdoj.gov/enrd/open.html. A copy of the Settlement Agreement may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $5.50 (25 cents per page reproduction cost) payable to the U.S. Treasury.

William D. Brighton,
Assistant Section Chief, Environmental Enforcement Section, Environment and Natural Resources Division.

[FR Doc. 04-26119 Filed 11-24-04; 8:45 am]

BILLING CODE 4410-15-M